DEPARTMENT OF COMMERCE

National Oceanic and Atmospheric Administration

[RTID 0648-XB347]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a one day in-person and virtual meeting (hybrid) of its Ecosystem Technical Committee (ETC).

DATES: The meeting will take place Friday, September 10, 2021, 8:30 a.m.-5 p.m., EDT.

ADDRESSES: The in-person meeting will take place at the Gulf Council office. If you prefer not to travel at this time, you may attend via webinar. Registration information will be available on the Council's website by visiting www.gulfcouncil.org and clicking on the Ecosystem Technical Committee meeting on the calendar.

Council address: Gulf of Mexico Fishery Management Council, 4107 W Spruce Street, Suite 200, Tampa, FL 33607; telephone: (813) 348-1630.

FOR FURTHER INFORMATION CONTACT: Dr. Natasha Mendez-Ferrer, Fishery Biologist, Gulf of Mexico Fishery Management Council; natasha.mendez@gulfcouncil.org, telephone: (813) 348-1630.

SUPPLEMENTARY INFORMATION:

Friday, September 10, 2021; 8:30 a.m. Until 5 p.m.; EDT

The meeting will begin with Introductions and Adoption of Agenda, Approval of Minutes from the March 2, 2020 meeting and review of Scope of Work with its members.

The ETC will receive a Mid-Term Project Summary on the Overview of Fisheries Ecosystem Planning (FEP), Defining Fishery Ecosystem Issues, review indicators and data visualization, and discuss ETC recommendations.

The ETC will review Case Studies and Lessons Learned from other FEP efforts and provide recommendations. They will receive an Update on Stakeholder Mapping, Engagement and Mental Modelling and receive a Status Update on the Council Coordination Committee (CCC) Subcommittee on Area-Based Management; and will then provide recommendations.

The ETC will receive public comment; and discuss any Other Business items.

—Meeting Adjourns

The meeting will be held in-person and via webinar (hybrid). You may register for the webinar by visiting www.gulfcouncil.org and clicking on the Ecosystem Technical Committee meeting on the calendar.

The Agenda is subject to change, and the latest version along with other meeting materials will be posted on www.gulfcouncil.org as they become available.

Although other non-emergency issues not on the agenda may come before the Technical Committee for discussion, in accordance with the Magnuson-Stevens Fishery Conservation and Management Act, those issues may not be the subject of formal action during this meeting. Actions of the Technical Committee will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

Authority: 16 U.S.C. 1801 et seq.

Dated: August 18, 2021.
Tracey L. Thompson,
Acting Deputy Director, Office of Sustainable Fisheries, National Marine Fisheries Service.

[FR Doc. 2021-17993 Filed 8-20-21; 8:45 am]

BILLING CODE 3510-22-P